INTERNATIONAL TRADE COMMISSION

[Investigation No. 337-TA-529]

In the Matter of Certain Digital Processors, Digital Processing Systems, Components Thereof, and Products Containing Same; Notice of a Commission Determination Not To Review an Initial Determination Granting a Motion To Amend Complaint and Notice of Investigation

AGENCY: U.S. International Trade Commission.

ACTION: Notice.

SUMMARY: Notice is hereby given that the U.S. International Trade Commission has determined not to review the presiding administrative law judge's (“ALJ's”) initial determination (“ID”) granting complainant's motion to amend the complaint and notice of investigation in the above-captioned investigation to add claims 5 and 6 of U.S. Patent No. 5,517,628.

FOR FURTHER INFORMATION CONTACT: Timothy P. Monaghan, Esq., Office of the General Counsel, U.S. International Trade Commission, 500 E Street, SW., Washington, DC 20436, telephone 202-205-3152. Copies of the nonconfidential version of the ID and all nonconfidential documents filed in connection with this investigation are or will be available for inspection during official business hours (8:45 a.m. to 5:15 p.m.) in the Office of the Secretary, U.S. International Trade Commission, 500 E Street, SW., Washington DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on January 6, 2005 (70 FR 1277) based on a complaint filed on behalf of BIAX Corporation (“BIAX”), of Boulder, Colorado. The complaint alleged violations of section 337 in the importation into the United States, sale for importation, and sale within the United States after importation of certain digital processors, digital processing systems, components thereof, and products containing same by reason of infringement of certain claims of five U.S. patents, US Patent Nos. 4,487,755; 5,021,954; 5,517,628 (“the ‘628 patent”); 6,253,313; and 5,765,037. The notice of investigation named Texas Instruments, Inc., of Dallas, Texas; iBiquit Digital Corporation, of Columbia, Maryland; Kenwood Corporation, of Japan; and Kenwood U.S.A. Corporation, of Long Beach, California as respondents.

On May 17, 2005, the ALJ issued the subject ID, Order No. 10, granting complainant's motion to amend the complainant and notice of the investigation to add claims 5 and 6 of the 628 patent. No party filed a petition to review the subject ID.

This action is taken under the authority of section 337 of the Tariff at of 1930, 19 U.S.C. 1337, and section 210.42 of Rules of Practice and Procedure, 19 CFR 210.42.

By order of the Commission.
Issued: June 10, 2005.
Marilyn R. Abbott,
Secretary of the Commission.

[FR Doc. 05-11868 Filed 6-15-05; 8:45 am]

BILLING CODE 7020-02-M